FEDERAL COMMUNICATIONS COMMISSION

[FRS 17148]

Wireless E911 Location Accuracy Requirements

AGENCY: Federal Communications Commission.

ACTION: Petitions for reconsideration.

SUMMARY: The Association of Public-Safety Communications Officials-International, Inc. (APCO) and CTIA have each filed a Petition for Reconsideration in the Commission's Wireless E911 Location Accuracy rulemaking proceeding, PS Docket 07-114.

DATES: Oppositions to the Petitions must be filed on or before November 3, 2020. Replies to an opposition must be filed on or before November 13, 2020.

ADDRESSES: Federal Communications Commission, 445 12th Street SW, Washington, DC 20554.

FOR FURTHER INFORMATION CONTACT: John Evanoff, john.evanoff@fcc.gov, of the Public Safety and Homeland Security Bureau, Policy and Licensing Division, (202) 418-0848.

SUPPLEMENTARY INFORMATION: This is a summary of the Commission's document, released on October 8, 2020 (DA 20-1175). The Petitions may be accessed online via the Commission's Electronic Comment Filing System at: https://www.fcc.gov/ecfs/. The Commission will not send a Congressional Review Act (CRA) submission to Congress or the Government Accountability Office pursuant to the CRA, 5 U.S.C. 801 because no rules are being adopted by the Commission.

Subject. Wireless E911 Location Accuracy Requirements, Report and Order, FCC 20-98, published at 85 FR 53234, August 28, 2020, in PS Docket No. 07-114. This Notice is being published pursuant to 47 CFR 1.429(e). See also 47 CFR 1.4(b)(1) and 1.429(f), (g).

Number of Petitions filed: 2.

Federal Communications Commission.
Marlene Dortch,
Secretary, Office of the Secretary.

[FR Doc. 2020-22981 Filed 10-16-20; 8:45 am]

BILLING CODE 6712-01-P